NUCLEAR REGULATORY COMMISSION

[Docket No. 72-1050; NRC-2016-0231]

Waste Control Specialists LLC's Consolidated Interim Spent Fuel Storage Facility Project

AGENCY: Nuclear Regulatory Commission.

ACTION: License application; withdrawal of notice of opportunity to request a hearing.

SUMMARY: The U.S. Nuclear Regulatory Commission (NRC) is withdrawing the notice of opportunity to request a hearing for Waste Control Specialists LLC's application to construct and operate a Consolidated Interim Storage Facility (CISF) for spent nuclear fuel at WCS's facility in Andrews County, Texas.

DATES: July 20, 2017.

ADDRESSES: Please refer to Docket ID NRC-2016-0231 when contacting the NRC about the availability of information regarding this document. You may obtain publicly-available information related to this document using any of the following methods:

• Federal Rulemaking Web site: Go to http://www.regulations.gov and search for Docket ID NRC-2016-0231. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” Section II of this document.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION:

I. Background

By letter dated April 28, 2016, as supplemented on July 20, August 19, August 31, September 27, October 7, November 16, December 16, December 22, 2016, and March 16, 2017, WCS submitted an application for a specific license pursuant to part 72 of title 10 of the Code of Federal Regulations (10 CFR), “Licensing Requirements for the Independent Storage of Spent Nuclear Fuel, High-Level Radioactive Waste, and Reactor-Related Greater Than Class C Waste.” In its letter, WCS requested authorization to store up to 5,000 metric tons of uranium for a period of 40 years in a CISF.

In addition, by letter dated July 21, 2016, WCS requested that the NRC initiate its environmental impact statement (EIS) process for the WCS CISF license application as soon as practicable. By letter dated October 7, 2016, the NRC informed WCS of its decision to start the EIS process in advance of making a decision on docketing the application. On November 14, 2016 (81 FR 79531), the NRC published a notice in the Federal Register announcing its intent to prepare an EIS and to open the scoping period for the EIS.

By letter dated January 26, 2017, the NRC informed WCS of its decision to accept the application and proceed with the technical review. Subsequently, on January 30, 2017 (82 FR 8773), the NRC published a notice in the Federal Register announcing the acceptance for docketing and opportunity to request a hearing and to petition for leave to intervene of the WCS application.

By letter dated March 16, 2017, WCS submitted Revision 1 to its license application. By letter dated April 18, 2017, WCS requested that the NRC temporarily suspend all safety and environmental review activities as well as public participation activities associated with WCS' license application. On April 19, 2017, WCS and the NRC staff jointly requested that the Commission withdraw the hearing notice, explaining that a new Federal Register notice to provide a fresh opportunity for interested persons to request a hearing would be issued if review of the application resumes. On May 10, 2017, the NRC staff granted WCS' request to temporarily suspend all safety and environmental review activities as well as public participation activities associated with its license application. On June 22, 2017, the Commission granted WCS's and the NRC staff's request and further directed that the NRC staff to publish a Federal Register notice withdrawing the opportunity to request a hearing on this license application and directed the NRC staff to publish a new notice of opportunity to request a hearing in the Federal Register if WCS requests that the NRC staff resume its review of WCS's application.

II. Availability of Documents

The documents identified in the following table are available to interested persons through one or more of the following methods, as indicated.

Document | ADAMS Accession No.
WCS submittal of CISF license application, with Environmental Report | ML16132A533
WCS letter with schedule for response to NRC request for supplemental information | ML16193A314
WCS initial submittal in response to NRC request for supplemental information | ML16229A537
WCS submittal of supplemental security information | ML16235A467
WCS request for NRC to begin EIS process as soon as practicable | ML16229A340
WCS second submittal in response to NRC request for supplemental information | ML16265A454
WCS submittal of additional supplemental security information | ML16280A300
NRC response to WCS request to begin EIS process as soon as practicable | ML16285A317
WCS third submittal in response to NRC request for supplemental information | ML16287A527
WCS fourth submittal in response to NRC request for supplemental information | ML16330A116
WCS fifth submittal in response to NRC request for supplemental information | ML16356A346
WCS sixth submittal in response to NRC request for supplemental information | ML17018A292
NRC letter accepting application for review | ML17018A168
WCS license application Revision 1 submittal | ML17082A007
WCS request NRC to temporarily suspend all safety and environmental review activities | ML17110A206
NRC granting WCS request to temporarily suspend all safety and environmental review activities | ML17129A314

Dated at Rockville, Maryland, this 13th day of July 2017.
For the Nuclear Regulatory Commission.
John McKirgan,
Chief, Spent Fuel Licensing Branch, Division of Spent Fuel Management, Office of Nuclear Material Safety and Safeguards.

[FR Doc. 2017-15239 Filed 7-19-17; 8:45 am]

BILLING CODE 7590-01-P